FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

TRANS # | Acquiring | Acquired | Entities
Transactions Granted Early Termination—01/04/2005
20050383 | SBC Communications Inc | Yantra Corporation | Yantra Corporation.
20050384 | Quantum Fuel Systems Technologies Worldwide, Inc | Starcraft Corporation | Starcraft Corporation.
20050394 | Selectica, Inc | I-many, Inc | I-many, Inc.
20050397 | Witness Systems, Inc | Blue Pumpkin Software, Inc | Blue Pumpkin Software, Inc.
20050398 | LifePoint Hospitals, Inc | Danville Regional Health System, Inc | Ambulatory Services of Danville. Danville Regional Medical Center. Memorial Properties, Inc.
20050399 | Citigroup Inc | ABRY Partners IV, L.P | Gallarus Media Holdings, Inc
20050400 | Prudential plc | ING Groep N.V | Life Insurance Company of Georgia. Life of Georgia Agency, Inc.
20050402 | Alamosa Holdings, Inc | AirGate PCS, Inc | AirGate PCS, Inc.
20050403 | eBay Inc | Viva Group. Inc | Viva Group. Inc
20050405 | ProQuest Company | Voyager Expanded Learning, Inc | Voyager Expanded Learning, Inc.
20050410 | Diageo plc | The Chalone Wine Group, Ltd | The Chalone Wine Group, Ltd.
20050415 | Black Box Corporation | Norstan, Inc | Norstan, Inc.
Transactions Granted Early Termination—01/05/2005
20041257 | The Cooper Companies, Inc | Ocular Sciences, Inc | Ocular Sciences, Inc.
20050344 | Patterson-UTI Eneergy, Inc | Key Energy Services, Inc | Key Energy Drilling, Beneficial, L.P. Key Energy Drilling, Inc. Key Four Corners, Inc. Key Rocky Mountain, Inc.
20050388 | Ascend Media Holdings, LLC | Media/Communications Partners II Limited Partnership | Medical World Communications, Inc.
20050390 | Fritz R. Kundrun | Alpha Nautral Resources, Inc | Alpha Nautral Resources, Inc.
20050391 | Hans Mende | Alpha Nautral Resources, Inc | Alpha Nautral Resources, Inc.
20050392 | First Reserve Fund IX, L.P | Alpha Nautral Resources, Inc | Alpha Nautral Resources, Inc.
20050406 | Affiliated Computer Services, Inc | Superior Consultant Holdings Corporation | Superior Consultant Holdings Corporation.
20050407 | Dubai Ports International FX LTD | CSX Corporation | SL Service, Inc.
Transactions Granted Early Termination—01/06/2005
20050386 | Summit Ventures VI-A, L.P | Thomas F. Leahy | Help/Systems, Incorporated.
20050413 | TANDBERG Television ASA | N2 Broadband, Inc | N2 Broadband, Inc.
Transactions Granted Early Termination—01/07/2005
20050333 | Morgan Stanley | PULSE EFT Association | PULSE EFT Association.
20050404 | Honeywell International Inc | Novar plc | Novar plc.
20050422 | Investment Technology Group, Inc | Morgan Stanley | POSIT®.
200504423 | J.P. Morgan Chase & Co | Bristol-Myers; Squibb Company | Bristol-Myers Oncology Therapeutics Network, Inc., OTN Parent Corp.
20050427 | Legend Holdings Limited | International Business Machines Corporation | IBM Products AP Ltd. IBM Products Asia Pte Ltd. IBM Products Holdings Spri. IBM Products U.K. Ltd.
20050429 | J.P. Morgan Chase & Co | PQ Corporation | PQ Corporation.
20050432 | Serco Group, plc | CM Equity Partners, LP RCI Holding Corporation | RCI Holding Corporation.
Transactions Granted Early Termination—01/10/2005
20050356 | Summer M. Redstone | Sinclair Broadcast Group, Inc | Chesapeake Television, Inc. SCI-Sacramento Licensee, L.L.C.
20050431 | 3Com Corporation | TippingPoint Technologies, Inc | TippingPoint Technologies, Inc.
20050434 | Perry Ellis International, Inc | Tropical Sportswear Int'l Corporation | Tropical Sportswear Int'l Corporation.
Transactions Granted Early Termination—01/11/2005
20050359 | Onex Partners LP | Laidlaw International, Inc | American Medical Response, Inc. EmCare Holdings Inc.
20050387 | Schawk, Inc | KAGT Holdings, Inc | KAGT Holdings, Inc.
20050411 | The Veritas Capital Fund II, L.P | Computer Sciences Corporation | DynCorp International Asset Corp. DynCorp International, LLC.
20050421 | Lone Star Fund V (U.S.), L.P | Koninklijke Ahold N.V | ARP, etc. BI-LO, LLC. Bruno's, Inc., Bruno's Supermarkets, Inc. Golden Gallon Holding LLC. v/s BI-LO Brands, Inc.
20050437 | CentralPoint Energy, Inc | American Electric Power Company, Inc | AEP Texas Central Company.
Transactions Granted Early Termination—01/13/2005
20050426 | Highmark, Inc | Harvey Ross | Viva Optique, Inc.
20050439 | UBS AG | Jullius Baser Holding Ltd | Bank Julius Baer & Co. Ltd. Julius Baer Investment Advisory (Canada) Ltd. Julius Baer Securities Inc.
Transactions Granted Early Termination—01/14/2005
20050424 | Moulin International Holdings Limited | Thoams H. Lee Equity Fund IV, L.P. | Eye Care Centers of America, Inc.
20050435 | MTC Technologies | Dr. Paul Hsu and Majes Hsu | Manufacturing Technology, Inc.
20050440 | GGC Investment Fund II, L.P | ECCA Holdings Corporation | ECCA Holdings Corporation.
20050441 | Moulin International Holdings Limited | ECCA Holdings Corporation | ECCA Holdings Corporation.
20050467 | Source Interlink Companies, Inc | Yucaipa One-Stop Partners, L.P. | Alliance Entertainment Corp.
20050468 | Yucaipa One-Stop Partners, L.P. | Source Interlink Companies, Inc | Source Interlink Companies, Inc.
20050472 | FMR Corp | Fiserv Inc. | BHC Investments, Inc.
Transactions Granted Early Termination—01/19/2005
20050445 | Mohawk Paper Mills, Inc | International Paper Company | International Paper Company.
20050471 | KKR Millennium Fund (Overseas), Limited Partnership | Masonite International Corporation | Masonite International Corporation.
20050475 | American International Group, Inc | Wachovia Corporation | First Union Financial Investments, Inc. Wachovia Capital Investments, Inc.
20050477 | Warburg Pincus Private Equity VIII, L.P | Boston Ventures Limited Partnership VI | Camp Systems International, LLC.
20050478 | EMC Corporation | System Management Arts Incorporated | System Management Arts Incorporated.
20050489 | Highland Capital Partners VI | Michael Mann | Rare Domains.com, LLC. Rare Names, LLC.
Transactions Granted Early Termination—01/21/2005
20050487 | Cofra Holding AG | Aaron D. Spencer | Uno Restaurant Holdings Corporation.

FOR FURTHER INFORMATION CONTACT: Sandra M. Peay, Contact Representative, or Renee Hallman, Case Management Assistant.

Federal Trade Commission, Premerger Notification Office, Bureau of Competition, Room H-303, Washington, DC 20580, (202) 326-3100.

By direction of the Commission.
Donald S. Clark,
Secretary.

[FR Doc. 05-2276 Filed 2-4-05; 8:45 am]

BILLING CODE 6750-01-M